DEPARTMENT OF TRANSPORTATION

Federal Aviation Administration

14 CFR Part 39

[Docket No. FAA-2009-0162; Directorate Identifier 2004-NE-19-AD]

RIN 2120-AA64

Airworthiness Directives; Rolls-Royce plc (RR) RB211-524 Series Turbofan Engines

AGENCY: Federal Aviation Administration (FAA), Department of Transportation (DOT).

ACTION: Notice of proposed rulemaking (NPRM).

SUMMARY: The FAA proposes to supersede an existing airworthiness directive (AD) for certain RR RB211-524 series turbofan engines. That AD currently requires initial and repetitive borescope inspections of the head section and meterpanel assembly of the combustion liner, and replacement if necessary with serviceable parts. This proposed AD would require those same inspections, and replacement if necessary with serviceable parts. This proposed AD would also add more part number (P/N) combustion liners to the applicability of this proposed AD. This proposed AD results from an inquiry submitted by an operator, which resulted in RR performing a complete review of the affected front combustion liner part numbers. We are proposing this AD to prevent deterioration of the engine combustion liner, which can result in combustion liner breakup, case burn-through, engine fire, and damage to the airplane.

DATES: We must receive any comments on this proposed AD by May 1, 2009.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Rolls-Royce plc, P.O. Box 31, Derby, DE24 8BJ, United Kingdom; telephone: 011-44-1332-242424; fax: 011-44-1332-249936, for the service information identified in this proposed AD.

FOR FURTHER INFORMATION CONTACT: Ian Dargin, Aerospace Engineer, Engine Certification Office, FAA, Engine and Propeller Directorate, 12 New England Executive Park, Burlington, MA 01803; e-mail: ian.dargin@faa.gov; telephone (781) 238-7178; fax (781) 238-7199.

SUPPLEMENTARY INFORMATION:

Comments Invited

We invite you to send any written relevant data, views, or arguments regarding this proposal. Send your comments to an address listed under ADDRESSES. Include “Docket No. FAA-2009-0162; Directorate Identifier 2004-NE-19-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

On December 20, 2004, the FAA issued AD 2004-26-05, Amendment 39-13917 (70 FR 680, January 5, 1005). That AD requires initial and repetitive borescope inspections of the combustion liner head section and meterpanel assembly of the combustion liner and replacement if necessary, with serviceable parts. That action also reduces the inspection intervals of certain RB211-524 engine models that have not been repaired to RR Field Repair Scheme FRS5367/B, and requires a mandatory terminating action to be completed by a certain date. The Civil Aviation Authority (CAA), which is the airworthiness authority for the United Kingdom, notified the FAA that an unsafe condition may exist on RR RB211-524 series turbofan engines. The CAA advises that in August 2002, an RB211-524B engine suffered a combustion case burn-through as a result of combustor head breakup. The combustor head was previously inspected within the inspection interval specified in RR Service Bulletin (SB) No. RB.211-72-B482, Revision 8, dated November 15, 2001, only 228 cycles before the event. Subsequent to the original AD, RR has issued several revisions to SB No. RB.211-72-B482 to expand the applicability and clarify or revise the inspection requirements. In 2003, RR issued Alert Service Bulletin (ASB) No. RB.211-72-AB482, Revision 9, dated July 28, 2003, to reduce the inspection interval for RB211-524B-02, -524B2, -524B3, and -524B4 engines that have not been repaired to RR Field Repair Scheme FRS5367/B. This condition, if not corrected, could result in deterioration of the engine combustion liner, which can result in combustion liner breakup, case burn-through, and engine fire.

Actions Since AD 2004-26-05 Was Issued

Since that AD was issued, an operator submitted an inquiry which resulted in RR performing a complete review of the affected front combustion liner part numbers. Rolls-Royce identified a number of P/Ns that must be included in the inspection requirements of this proposed AD.

Relevant Service Information

We have reviewed and approved the technical contents of the following RR SBs:

• RR ASB No. RB.211-72-AB482, Revision 9, dated July 28, 2003, which describes the initial inspection procedures to detect cracking of the combustion liner head section and the meterpanel. This ASB also describes the compliance intervals to do the initial and repetitive inspections.

• RR SB No. RB.211-72-9670, dated August 27, 1993, which describes the procedures to incorporate the improved combustion liner head with C263 material, and to incorporate local thickened diffuser walls around the struts for engine models -524B-02, -524B2, -524B3, -524B4, -524C2 and -524D4.

• RR SB No. RB.211-72-9764, Revision 3, dated January 16, 1998, which describes the procedures to incorporate the improved combustion liner with strengthened head and improved heat shields for engine models -524G and -524H.

The CAA classified ASB No. RB.211-72-AB482, Revision 9, dated July 28, 2003, as mandatory and issued AD G-2003-0011 (previously 005-07-95), dated October 1, 2003, in order to ensure the airworthiness of these RR engines in the United Kingdom.

Bilateral Agreement Information

This engine model is manufactured in the United Kingdom and is type certificated for operation in the United States under the provisions of Section 21.29 of the Federal Aviation Regulations (14 CFR 21.29) and the applicable bilateral airworthiness agreement. Under this bilateral airworthiness agreement, the CAA kept us informed of the situation described above. We have examined the findings of the CAA, reviewed all available information, and determined that AD action is necessary for products of this type design that are certificated for operation in the United States.

FAA's Determination and Requirements of the Proposed AD

We have evaluated all pertinent information and identified an unsafe condition that is likely to exist or develop on other products of this same type design. We are proposing this AD, which would require:

• Initial and repetitive borescope inspections of the combustion liner head section and meterpanel assembly of the combustion liner and, if necessary, replacement.

• Reduction of the inspection intervals of certain RB211-524 engine models that have not been repaired to RR Field Repair Scheme FRS5367/B, and

• A mandatory terminating action to the repetitive inspections to be completed no later than December 31, 2012.

The proposed AD would require that you do these actions using the service information described previously.

Costs of Compliance

We estimate that this proposed AD would affect 18 engines installed on airplanes of U.S. registry. We also estimate that it would take about 2 work-hours per engine to perform the proposed actions, and that the average labor rate is $80 per work-hour. No parts are required, so parts would cost about $0. Based on these figures, we estimate the total cost of the proposed AD to U.S. operators to be $2,880.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13917 (70 FR 680, January 5, 2005, and by adding a new airworthiness directive, to read as follows:

Rolls-Royce plc: Docket No. FAA-2009-0162; Directorate Identifier 2004-NE-19-AD.

Comments Due Date

(a) The Federal Aviation Administration (FAA) must receive comments on this airworthiness directive (AD) action by May 1, 2009.

Affected ADs

(b) This AD supersedes AD 2004-26-05, Amendment 39-13917.

Applicability

(c) This AD applies to Rolls-Royce plc (RR) engine models RB211-524B-02, -524B2, -524B3, -524B4, -524C2, and -524D4 series engines that incorporate RR Service Bulletin (SB) No. RB.211-72-7221 or RR SB No. RB.211-72-7998 with front combustion liner assembly, part number (P/N) UL16078, UL16885, UL21441, UL24898, UL26916, UL27107, UL27108, UL27109, UL27875, UL27876, UL28971, UL28972, UL28973, UL28974, UL28975, UL28976, UL28977, UL28978, UL28979, UL28980, UL28981, UL28982, or UL28983, installed but not incorporating RR SB No. RB.211-72-9670 or RR SB No. RB.211-72-9764, and engine models RB211-524G and -524H series engines with front combustion liner assembly P/N UL27659, UL23992, UL22988, UL37874, and UL37882, but not incorporating RR SB No. RB.211-72-9764. These engines are installed on, but not limited to, Boeing 747 and Lockheed L1011 series airplanes.

Unsafe Condition

(d) This AD results from an inquiry submitted by an operator which resulted in RR performing a complete review of the affected front combustion liner part numbers. We are issuing this AD to prevent deterioration of the engine combustion liner, which can result in combustion liner breakup, case burn-through, engine fire, and damage to the airplane.

Compliance

(e) You are responsible for having the actions required by this AD performed within the compliance times specified unless the actions have already been done.

Credit for Previous Inspections

(f) Engine inspections previously made to RR Service Bulletin No. RB.211-72-B482, Revision 8, meet the requirements of this AD for the initial or repetitive inspections specified in paragraphs (f) through (f)(3) and (g) through (g)(3) of this AD.

Inspections of Combustion Liner Head Sections—Not Previously Repaired

(g) Borescope-inspect combustion liner head sections that have not been previously repaired. Use paragraphs 3.A.(1) through 3.A.(5) of the Accomplishment Instructions of RR Alert Service Bulletin (ASB) No. RB.211-72-AB482, Revision 9, dated July 28, 2003, and the cycles-since-new (CSN), cycles-since-last inspection (CSLI), and cycles-in-service (CIS) compliance thresholds in Table 1 of this AD.

Table 1—Combustion Liner Head Section—Not Previously Repaired
Engine series | Initial inspection | Repetitive inspection | Parts exceeding initial inspection cycles
(1) RB211-524C2, -524D4, -524G, and -524H | Within 1,400 to 1,600 CSN | Within 200 CSLI | Within 100 CIS after the effective date of this AD.
(2) RB211-524B-02, -524B2, -524B3, and -524B4 | Within 3,000 to 3,200 CSN | Within 200 CSLI | Within 200 CIS after the effective date of this AD.

Inspections of Combustion Liner Head Sections—Previously Repaired Using RR Field Repair Scheme FRS5367/B

(h) Borescope-inspect combustion liner head sections previously repaired using RR Field Repair Scheme FRS5367/B. Use paragraphs 3.A.(1) through 3.A.(5) of the Accomplishment Instructions of RR ASB No. RB.211-72-AB482, Revision 9, dated July 28, 2003, and the cycles-since-last repair (CSLR), CSLI, and CIS compliance thresholds in Table 2 of this AD.

Table 2—Combustion Liner Head Section—Previously Repaired Using RR Field Repair Scheme FRS5367/B
Engine series | Initial inspection | Repetitive inspection | Parts exceeding initial inspection cycles
(1) RB211-524C2, -524D4, -524G, and -524H | Within 1,800 to 2,200 CSLR | Within 400 CSLI | Within 200 CIS after the effective date of this AD.
(2) RB211-524B-02, -524B2, -524B3, and -524B4 | Within 3,000 to 3,200 CSLR | Within 400 CSLI | Within 200 CIS after the effective date of this AD.

Inspections of Combustion Liner Head Sections That Have Been Repaired But Did Not Use RR Field Repair Scheme FRS5367/B

(i) Borescope-inspect combustion liner head sections that have been repaired using a method other than RR Field Repair Scheme FRS5367/B. Use paragraphs 3.A.(1) through 3.A.(5) of the Accomplishment Instructions of RR ASB No. RB.211-72-AB482, Revision 9, dated July 28, 2003, and the CSLR, CSLI, and CIS compliance thresholds in Table 3 of this AD.

Table 3—Combustion Liner Head Section—Repaired, But Did Not Use RR Field Repair Scheme FRS5367/B
Engine series | Initial inspection | Repetitive inspection | Parts exceeding initial inspection cycles
(1) RB211-524C2, -524D4, -524G, and -524H | Within 500 to 700 CSLR | Within 200 CSLI | Within 100 CIS after the effective date of this AD.
(2) RB211-524B-02, -524B2, -524B3, and -524B4 | Within 2,000 to 2,200 CSLR | Within 200 CSLI | Within 200 CIS after the effective date of this AD.

(3) For an installed front combustion liner that is subject to RR ASB No. RB.211-72-AB482, Revision 9, dated July 28, 2003, if the operator can confirm with the relevant overhaul base or repair vendor that the nicrobraze repair RR Field Repair Scheme FRS5367 has been applied to all 18 struts, then this is equivalent to compliance with RR Field Repair Scheme FRS5367/B.

(4) Head sections repaired by replacement of all 18 struts using RR Field Repair Scheme FRS6548 are considered as equivalent to fitting a new head section for inspection purposes.

Inspections of Meterpanel Assemblies—Not Repaired

(j) Borescope-inspect meterpanel assemblies that incorporate SB No. RB.211-72-7998, that have not been previously repaired. Use paragraphs 3.B.(1) through 3.B.(7) of the Accomplishment Instructions of RR ASB No. RB.211-72-AB482, Revision 9, dated July 28, 2003, and the CSN, CSLI, and CIS compliance thresholds in Table 4 of this AD.

Table 4—Meterpanel Assembly—Not Repaired
Engine series | Initial inspection | Repetitive inspection | Parts exceeding initial inspection cycles
(1) RB211-524D4, -524G, and -524H | Within 1,000 to 1,200 CSN | Within 400 CSLI | Within 50 CIS after the effective date of this AD.
(2) RB211-524D4, -524G, and -524H that have not used RB211-524H ratings at any time | Within 1,800 to 2,000 CSN | Within 400 CSLI | Within 50 CIS after the effective date of this AD.

Inspections of Meterpanel Assemblies—Repaired

(k) Borescope-inspect meterpanel assemblies that incorporate SB No. RB.211-72-7998, that have been previously repaired. Use paragraphs 3.B.(1) through 3.B.(7) of the Accomplishment Instructions of RR ASB No. RB.211-72-AB482, Revision 9, dated July 28, 2003, and the CSLR, CSLI, and CIS compliance thresholds in Table 5 of this AD.

Table 5—Meterpanel Assembly—Repaired
Engine series | Initial inspection | Repetitive inspection | Parts exceeding initial inspection cycles
(1) RB211-524D4, -524G, and -524H | Within 500 to 700 CSLR | Within 400 CSLI | Within 50 CIS after the effective date of this AD.

Reject Parts

(l) Replace parts that exceed the acceptance criteria. Information about the acceptance criteria can be found in the Aircraft Maintenance Manual, 72-00-00, Inspection/Check.

Mandatory Terminating Action

(m) Replace any front combustion liner assembly that has a P/N listed in paragraph (c) of this AD at the next shop visit, but no later than December 31, 2012.

(n) For RB211-524B02, -524B2, -524B3, -524B4, -524C2 and -524D4 engines, replacing the front combustion liner assembly with a front combustion liner assembly that incorporates the modifications in RR SB No. RB.211-72-9670, Original Issue, dated August 27, 1993; or RR SB No. RB.211-72-9764, Revision 3, dated January 16, 1998, constitutes terminating action to the repetitive inspections in paragraphs (f), (g), (h), (i), and (j), of this AD.

(o) For RB211-524G and -524H engines, replacing the front combustion liner assembly with a front combustion liner assembly that incorporates the modifications in RR SB No. RB.211-72-9764, Revision 3, dated January 16, 1998, constitutes terminating action to the repetitive inspections in paragraphs (f), (g), (h), (i), and (j) of this AD.

Definition of Shop Visit

(p) For the purpose of this AD, a shop visit is any time that the 04 module is removed for refurbishment or overhaul.

Related Information

(q) Contact Ian Dargin, Aerospace Engineer, Engine Certification Office, FAA, Engine and Propeller Directorate, 12 New England Executive Park, Burlington, MA 01803;e-mail: ian.dargin@faa.gov; telephone (781) 238-7178; fax (781) 238-7199, for more information about this AD.

(r) Rolls-Royce ASB No. RB.211-72-AB482, Revision 9, dated July 28, 2003; SB No. RB.211-72-9764, Revision 3, dated January 16, 1998; and SB No. RB.211-72-9670, Original Issue, dated August 27, 1993, pertain to the subject of this AD. Contact Rolls-Royce plc, P.O. Box 31, Derby, DE24 8BJ, United Kingdom; telephone: 011-44-1332-242424; fax: 011-44-1332-249936, for a copy of this service information.

Issued in Burlington, Massachusetts, on February 19, 2009.
Colleen M. D'Alessandro,
Acting Manager, Engine and Propeller Directorate, Aircraft Certification Service.

[FR Doc. E9-4317 Filed 2-27-09; 8:45 am]

BILLING CODE 4910-13-P